DEPARTMENT OF TRANSPORTATION

Federal Transit Administration

[FTA Docket No. FTA 2022-0037]

Agency Information Collection Activity Under OMB Review: Public Transportation Emergency Relief Program

AGENCY: Federal Transit Administration, Department of Transportation (DOT).

ACTION: Notice of request for comments.

SUMMARY: In compliance with the Paperwork Reduction Act of 1995, this notice announces that the Information Collection Requirements (ICRs) abstracted below have been forwarded to the Office of Management and Budget (OMB) for review and comment. The ICR describe the nature of the information collection and their expected burdens.

DATES: Comments must be submitted on or before December 19, 2022.

ADDRESSES: Written comments and recommendations for the proposed information collection should be sent within 30 days of publication of this notice to www.reginfo.gov/public/do/PRAMain Find this particular information collection by selecting “Currently under 30-day Review—Open for Public Comments” or by using the search function.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology. A comment to OMB is best assured of having its full effect if OMB receives it within 30 days of publication of this notice in the Federal Register.

FOR FURTHER INFORMATION CONTACT: Tia Swain, Office of Administration, Management Planning Division, 1200 New Jersey Avenue SE, Mail Stop TAD-10, Washington, DC 20590 (202) 366-0354 or tia.swain@dot.gov.

SUPPLEMENTARY INFORMATION: The Paperwork Reduction Act of 1995 (PRA), Public Law 104-13, Section 2, 109 Stat. 163 (1995) (codified as revised at 44 U.S.C. 3501-3520), and its implementing regulations, 5 CFR part 1320, require Federal agencies to issue two notices seeking public comment on information collection activities before OMB may approve paperwork packages. 44 U.S.C. 3506, 3507; 5 CFR 1320.5, 1320.8(d)(1), 1320.12. On August 24, 2022, FTA published a 60-day notice (87 FR 52109) in the Federal Register soliciting comments on the ICR that the agency was seeking OMB approval. FTA received one anonymous non-significant comment not associated with information collection or burden. Accordingly, DOT announces that these information collection activities have been re-evaluated and certified under 5 CFR 1320.5(a) and forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30-day notice is published. 44 U.S.C. 3507 (b)-(c); 5 CFR 1320.12(d); see also 60 FR 44978, 44983, Aug. 29, 1995. OMB believes that the 30-day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summaries below describe the nature of the information collection requirements (ICRs) and the expected burden. The requirements are being submitted for clearance by OMB as required by the PRA.

Title: Public Transportation Emergency Relief Program.

OMB Control Number: 2132-0575.

Background: Since the authorization of the Public Transportation Emergency Relief Program in 2012, Congress has appropriated funds three times for transit agencies affected by disaster.

The first appropriation of funds for the program was in 2013 following Hurricane Sandy, for which the President declared a major disaster for areas of 12 States and the District of Columbia. Under the Disaster Relief Appropriations Act (Pub. L. 113-2), Congress provided $10.9 billion for FTA's Emergency Relief Program for recovery, relief, and resilience efforts in the counties specified in the disaster declaration. Approximately $10.0 billion remained available after implementation of the Balanced Budget and Emergency Deficit Control Act of 2011 (Pub. L. 112-25) and after intergovernmental transfers to other bureaus and offices within DOT. FTA has allocated the full amount in multiple tiers for response, recovery and rebuilding; for locally prioritized resilience projects, and for competitively selected resilience projects.

The second appropriation of funds for the Emergency Relief Program was in 2018 following Hurricanes Harvey, Irma, and Maria, for which the President declared major disasters in areas of Florida, Georgia, Louisiana, Puerto Rico, South Carolina, Texas, and the U.S. Virgin Islands. Under the Bipartisan Budget Act of 2018 (Pub. L. 115-123), Congress provided $330 million for FTA's Emergency Relief Program for transit systems affected by Hurricanes Harvey, Irma, and Maria. On May 31, 2018 FTA allocated $277.5 million for response, recovery, rebuilding, and resilience projects.

The third appropriation of funds for the Emergency Relief Program was in 2019. Under the Additional Supplemental Appropriations for Disaster Relief Act of 2019, Congress appropriated $10.5 million for FTA's Emergency Relief Program for transit systems affected by major declared disasters occurring in calendar year 2018.

On March 13, 2020, FTA announced that expanded eligibility of federal assistance is available under FTA's Emergency Relief Program to help transit agencies respond to the coronavirus (COVID-19) in states where the Governor has declared an emergency. This includes allowing all transit providers, including those in large urban areas, to use federal formula funds for emergency-related capital and operating expenses, and raises the cap on the federal government's share of those expenses.

Respondents: States, local governmental authorities, Indian tribes and other FTA recipients impacted by Hurricane Sandy which affected mid-Atlantic and northeastern states in October 2012; Hurricane Harvey which affected areas of Texas and Louisiana in August 2017; and Hurricanes Irma and Maria which affected the southeastern states and the territories of the Puerto Rico and the U.S. Virgin Islands in September 2017, and by major declared disasters occurring in calendar year 2018.

Estimated Annual Number of Respondents: 26.

Estimated Total Annual Burden: 4,680 hours.

Frequency: Annually.

Nadine Pembleton,
Deputy Associate Administrator, Office of Administration.

[FR Doc. 2022-25205 Filed 11-17-22; 8:45 am]

BILLING CODE 4910-57-P